DEPARTMENT OF TRANSPORTATION

Federal Aviation Administration

Automatic Dependent Surveillance Broadcast (ADS-B)

AGENCY: Department of Transportation, Federal Aviation Administration.

ACTION: Notice of availability—Recommendations from the ADS-B In Aviation Rulemaking Committee.

SUMMARY: This notice announces the availability of a Report from the ADS-B In Aviation Rulemaking Committee, Recommendations to Define a Strategy for Incorporating ADS-B In Technologies into the National Airspace System. This committee was convened at the FAA's request to provide a forum for the U.S. and international aviation community to provide recommendations on a global strategy to proceed with ADS-B In while ensuring compatibility with the standards adopted for ADS-B Out. The FAA is currently reviewing the report to evaluate the appropriate course of action.

FOR FURTHER INFORMATION CONTACT: Doug Arbuckle, Chief Scientist, Surveillance & Broadcast Services Pgm, Sr Advisor for Surveillance & PNT, NextGen JPDO, (757)-846-4225.

SUPPLEMENTARY INFORMATION:

Background

On June 30, 2010, the FAA chartered the ADS-B In Aviation Rulemaking Committee (ARC) to provide a forum for the U.S. and international aviation community to define a strategy for incorporating ADS-B In technologies into the National Airspace System. The ARC specifically was tasked to provide recommendations for proceeding with ADS-B In while ensuring compatibility with the ADS-B Out aviation standards set forth in Title 14 of the Code of Federal Regulations § 91.225, ADS-B Out equipment and use and § 91.227, ADS-B Out equipment performance requirements.

Notice of Availability

The ADS-B In Aviation Rulemaking Committee, Recommendations to Define a Strategy for Incorporating ADS-B In Technologies into the National Airspace System, submitted to the FAA on September 30, 2011, is available for review and downloading from the FAA Web site at: http://www.faa.gov/nextgen/portfolio/trans_support_progs/adsb/

Issued in Washington, DC on November 9, 2011.
James Eck,
Director, Air Traffic Organization, Federal Aviation Administration (FAA).

[FR Doc. 2011-29668 Filed 11-16-11; 8:45 am]

BILLING CODE 4910-13-M